DEPARTMENT OF ENERGY

Federal Energy Regulatory Commission

[Project No. 1835-290]

Nebraska Public Power District; Notice of Availability of Environmental Assessment

In accordance with the National Environmental Policy Act of 1969 and the Federal Energy Regulatory Commission's regulations, 18 CFR part 380 (Order No. 486, 52 FR 47879), the Office of Energy Projects has reviewed the application for non-capacity license amendment for the North Platte/Keystone Diversion Dam Hydroelectric Project, located on the North/South Platte Rivers in Lincoln and Keith counties, Nebraska, and has prepared an Environmental Assessment (EA). In the EA, Commission staff analyzes the potential environmental effects of the proposed license amendment and concludes that issuing an order approving the proposal, with appropriate environmental measures, would not constitute a major federal action significantly affecting the quality of the human environment.

In addition to publishing the full text of this document in the Federal Register, the Commission provides all interested persons an opportunity to view and/or print the contents of this document via the internet through the Commission's Home Page (http://www.ferc.gov) using the “elibrary” link. Enter the docket number excluding the last three digits in the document field to access the document. You may also register online at http://www.ferc.gov/docs-filing/esubscription.asp to be notified via email of new filings and issuances related to this or other pending projects. At this time, the Commission has suspended access to the Commission's Public Reference Room, due to the proclamation declaring a National Emergency concerning the Novel Coronavirus Disease (COVID-19), issued by the President on March 13, 2020. For assistance, contact FERC at FERCOnlineSupport@ferc.gov or call toll-free, (886) 208-3673 or TYY, (202) 502-8659.

For further information, contact Jon Cofrancesco at (202) 502-8951 or jon.cofrancesco@ferc.gov.

Dated: April 2, 2020.
Kimberly D. Bose,
Secretary.

[FR Doc. 2020-07376 Filed 4-7-20; 8:45 am]

BILLING CODE 6717-01-P